CORPORATION FOR NATIONAL AND COMMUNITY SERVICE

Proposed Information Collection Renewal; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of its Peer Reviewer Application (OMB Number 3045-0090). Copies of the forms can be obtained by contacting the office listed below in the ADDRESSES section of this notice.

DATES: Written comments must be submitted to the office listed in the ADDRESSES section by August 23, 2004.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

ADDRESSES: You may submit written input to the Corporation by any of the following methods:

(1) Electronically through the Corporation's e-mail address system to Shelly Ryan at sryan@cns.gov.

(2) By fax to 202-565-2786, Attention: Ms. Shelly Ryan.

(3) By mail sent to: Corporation for National and Community Service, 9th Floor, Attn: Shelly Ryan, 1201 New York Avenue NW., Washington, DC 20525.

(4) By hand delivery or by courier to the Corporation's mailroom at room 6010 at the mail address given in paragraph (3) above, between 9 a.m. and 4 p.m. Monday through Friday, except Federal holidays.

FOR FURTHER INFORMATION CONTACT: Shelly Ryan, (202) 606-5000, ext. 549.

SUPPLEMENTARY INFORMATION:

I. Background

The Corporation connects Americans of all ages and backgrounds with opportunities to give back to their communities and country through three programs: AmeriCorps, Learn and Serve America, and Senior Corps. The Corporation provides grants to support people and organizations that use service as a strategy for addressing national and community needs. As part of its review process the Corporation uses peer reviewers to determine the quality of the applications we receive.

II. Current Action

The information collected will be used by the Corporation to select peer reviewers for each grant competition. All individuals interested in applying as peer reviewers or facilitators of the peer review panels will be required to complete an electronic application.

Modifications include combining the Zoomerang survey and the electronic application into one web-based process. This was a two-step process. Applicants would fill out a brief survey and once selected would complete the full eGrants application. The eGrants screens are changing from Oracle-based to web-based.

The Corporation seeks to continue using this particular form, albeit in a revised version. The current form is due to expire August 30, 2004.

Type of Review: Renewal.

Agency: Corporation for National and Community Service.

Title: Peer Reviewer Application.

OMB Number: 3045-0090.

Agency Number: None.

Affected Public: Individuals who are interested in serving as a peer reviewer.

Total Respondents: 2,000 responses annually.

Frequency: One time to complete and update as needed.

Average Time per Response: 40 minutes (includes both completing and updating)

Estimated Total Burden Hours: 1,333 hours.

Total Burden Cost (capital/startup): None.

Total Burden Cost (operating/maintenance): None.

Comments submitted in response to this notice will be summarized and/or included in the request for Office of Management and Budget approval of the information collection request; they will also become a matter of public record.

Dated: June 17, 2004.
Marlene Zakai,
Director, Office of Grants Policy and Operation.

[FR Doc. 04-14278 Filed 6-23-04; 8:45 am]

BILLING CODE 6050-$$-P